DEPARTMENT OF THE INTERIOR

Bureau of Reclamation

[RR02030000, 17XR0687NA, RX18527906.6000000]

Notice To Reschedule Meeting Dates and Extend Comment Period for the Sites Reservoir Project Draft Environmental Impact Report/Environmental Impact Statement and Draft Feasibility Report, Sites, California

AGENCY: Bureau of Reclamation, Interior.

ACTION: Notice to reschedule meeting dates and extend public comment period.

SUMMARY: The Bureau of Reclamation, as the National Environmental Policy Act (NEPA) Federal lead agency, and the Sites Project Authority, as the California Environmental Quality Act (CEQA) State lead agency, have rescheduled the public meetings dates and have extended the public comment period for the Sites Reservoir Project Draft Environmental Impact Report/Environmental Impact Statement (Draft EIR/EIS) and Draft Feasibility Report (Draft FR).

DATES: The comment period for the Draft EIR/EIS and Draft FR that published August 18, 2017, at 82 FR 39454, is extended. Submit written comments on or before January 15, 2018.

Two public meetings have been rescheduled to receive oral or written comments regarding environmental effects. The new meeting dates are:

• Tuesday, December 5, 2017, 1:00 p.m.-3:00 p.m., Sacramento, CA.

• Thursday, December 7, 2017, 6:00 p.m.-8:00 p.m., Maxwell, CA.

Each meeting will begin with a 1-hour open house to view project information and interact with the project team.

ADDRESSES: Send written comments on the Draft EIR/EIS or Draft FR to DEIR/EIS Comments, Sites Project Authority, P.O. Box 517, Maxwell, CA 95955, or email to EIR-EIS-Comments@SitesProject.org.

The public meetings will be held at the following locations:

• Sacramento—Embassy Suites, 100 Capitol Mall, Old Sacramento Ballroom, Sacramento, CA 95814.

• Maxwell—Sites Project Authority, 122 Old Highway 99 West, Maxwell, CA 95955.

Electronic CD copies of the Draft EIR/EIS may be requested from Sites Project Authority, at (530) 410-8250, or at EIR-EIS-Comments@SitesProject.org. The Draft EIR/EIS is also accessible from the following Web site: https://www.usbr.gov/mp/nepa/nepa_projdetails.cfm?project_ID=29024.

Copies of the Draft EIR/EIS are available for public review at the following locations:

1. Sites Project Authority, 122 Old Highway 99 West, Maxwell, CA 95955

2. Bureau of Reclamation, Mid-Pacific Region, Regional Library, 2800 Cottage Way, Sacramento, CA 95825

3. Sacramento Public Library, Central Branch, 828 I Street, Sacramento, CA 95814

4. Colusa County Free Library, Main Branch, 738 Market Street, Colusa, CA 95932

5. Glenn County Public Library, Willows Branch, 201 N. Lassen Street, Willows, CA 95988

6. Tehama County Library, Red Bluff Branch, 645 Madison Street, Red Bluff, CA 96080

FOR FURTHER INFORMATION CONTACT: Please contact Mr. Michael Dietl, Bureau of Reclamation, at (916) 978-5070, or via email at mdietl@usbr.gov; or Mr. Rob Thomson, Sites Project Authority, at (530) 438-2309, or via email at EIR-EIS-Comments@SitesProject.org.

SUPPLEMENTARY INFORMATION: The 154-day Draft EIR/EIS public review period provides an opportunity for regulatory agencies and the public to comment on the adequacy and completeness of the environmental analyses and proposed mitigation measures, helping inform project development.

If special assistance is required at the public meetings, please contact Mr. Michael Dietl at (916) 978-5070; or via email at mdietl@usbr.gov. Please notify Mr. Dietl as far in advance as possible to enable Reclamation to secure the needed services. If a request cannot be honored, the requestor will be notified. A telephone device for the hearing impaired (TTY) is available at (800) 877-8339.

Public Disclosure. Before including your address, phone number, email address, or other personal identifying information in your comment, you should be aware that your entire comment—including your personal identifying information—may be made publicly available at any time. While you can ask us in your comment to withhold your personal identifying information from public review, we cannot guarantee that we will be able to do so.

Dated: September 12, 2017.
Federico Barajas,
Deputy Regional Director, Mid-Pacific Region.

[FR Doc. 2017-21084 Filed 9-29-17; 8:45 am]

BILLING CODE 4332-90-P